DEPARTMENT OF ENERGY

Federal Energy Regulatory Commission

[Docket No. RP04-292-001]

Gas Transmission Northwest Corporation; Notice of Compliance Filing

June 17, 2004.

Take notice that on June 14, 2004, Gas Transmission Northwest Corporation (GTN) tendered for filing to be part of its FERC Gas Tariff, Third Revised Volume No. 1-A, the tariff sheets listed in Appendix A to the filing, with an effective date of June 3, 2004.

GTN states that the filing is being made to comply with the Commission's June 3, 2004 Order Accepting Tariff Sheets Subject to Conditions in Docket No. RP04-292-000. GTN states that it is adding tariff language to specify how right of first refusal (ROFR) bids will be evaluated by the pipeline and how shippers with a ROFR must match bids that have been accepted by the pipeline.

GTN further states that a copy of this filing has been served on GTN's jurisdictional customers and interested State regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1404 Filed 6-23-04; 8:45 am]

BILLING CODE 6717-01-P